DEPARTMENT OF EDUCATION

Applications for New Awards; Personnel Development To Improve Services and Results for Children With Disabilities

AGENCY: Office of Special Education and Rehabilitative Services, Department of Education.

ACTION: Correction; Notice inviting applications for new awards for fiscal year (FY) 2011.

SUMMARY: On April 13, 2011, we published in the Federal Register (76 FR 20637) a notice inviting applications for new awards for FY 2011 under certain Personnel Development to Improve Services and Results for Children with Disabilities competitions authorized under the Individuals with Disabilities Education Act. Through this notice, we are correcting a technical error in Focus Area E of the Personnel Preparation in Special Education, Early Intervention, and Related Services (84.325K) priority, which appears on pages 20640 through 20644 of the original application notice.

FOR FURTHER INFORMATION CONTACT: Maryann McDermott, U.S. Department of Education, 400 Maryland Avenue, SW., room 4062, Potomac Center Plaza, Washington, DC 20202-2600. Telephone: (202) 245-7439.

If you use a telecommunications device for the deaf (TDD), call the Federal Relay Service (FRS), toll-free, at 1-800-877-8339.

SUPPLEMENTARY INFORMATION: We make the following correction:

On page 20643, second column, paragraph four, in Focus Area E: Preparing Personnel to Provide Secondary Transition Services to School-Age Children with Disabilities, second sentence, we remove the word “or” and replace it with the word “and”. The sentence now correctly reads, “Programs that offer a sequence of career, vocational, or secondary transition courses and that enable personnel to meet State requirements for a credential or endorsement in secondary transition services for children with disabilities are eligible under Focus Area E.”

Accessible Format: Individuals with disabilities can obtain this document in an accessible format (e.g., braille, large print, audiotape, or computer diskette) on request to the contact person listed under FOR FURTHER INFORMATION CONTACT.

Electronic Access to This Document: The official version of this document is the document published in the Federal Register. Free Internet access to the official edition of the Federal Register and the Code of Federal Regulations is available via the Federal Digital System at: http://www.gpo.gov/fdsys. At this site you can view this document, as well as all other documents of this Department published in the Federal Register, in text or Adobe Portable Document Format (PDF). To use PDF you must have Adobe Acrobat Reader, which is available free at the site.

You may also access documents of the Department published in the Federal Register by using the article search feature at: http://www.federalregister.gov. Specifically, through the advanced search feature at this site, you can limit your search to documents published by the Department.

Dated: April 28, 2011.
Alexa Posny,
Assistant Secretary for Special Education and Rehabilitative Services.

[FR Doc. C1-2011-10908 Filed 5-3-11; 8:45 am]

BILLING CODE 4000-01-Pz